DEPARTMENT OF HEALTH AND HUMAN SERVICES

National Institutes of Health

National Toxicology Program Board of Scientific Counselors; Announcement of Meeting

AGENCY: National Institutes of Health, HHS.

ACTION: Notice.

SUMMARY: This notice announces continuation of the May 4, 2023, meeting of the National Toxicology Program (NTP) Board of Scientific Counselors (BSC) on May 16, 2023. The BSC is a federally chartered, external advisory group composed of scientists from the public and private sectors. During a public meeting on May 4, the BSC considered a report from its Working Group containing proposed recommendations on whether NTP authors sufficiently addressed internal and external scientific comments on NTP's systematic review to evaluate the neurobehavioral health effects from exposure to fluoride during development, as set forth in NTP's Draft State of the Science Monograph and Draft Meta-Analysis Manuscript. After deliberation and discussion, the BSC voted to accept the Working Group's report in full, with the exception of one paragraph on page 323 related to an IQ statistic that the BSC asked the Working Group to verify or correct. The Working Group has reexamined the text, and the BSC will discuss and deliberate the Working Group's updated input at the meeting on May 16. This is a virtual meeting and open to the public. This notice is being published less than 15 days prior to the meeting due to scheduling difficulties.

DATES:

Meeting: Scheduled for May 16, 2023, 3:00-3:30 p.m. Eastern Daylight Time (EDT). Ending time is approximate; meeting may end earlier or run later.

ADDRESSES:

Meeting web page: The preliminary agenda and other meeting materials will be available at https://ntp.niehs.nih.gov/go/165 by 5 p.m. on May 12, 2023.

Virtual Meeting: A link to the URL for viewing the virtual meeting will be provided on the meeting web page by noon the day before the meeting.

FOR FURTHER INFORMATION CONTACT: Dr. Milene Brownlow, Designated Federal Officer for the BSC, Office of Policy, Review, and Outreach, Division of Translational Toxicology, NIEHS. Phone: 984-287-3364, Email: milene.brownlow@nih.gov.

SUPPLEMENTARY INFORMATION: The NTP conducted a systematic review to evaluate the neurobehavioral health effects from exposure to fluoride during development and prepared a Draft State of the Science Monograph and a Draft Meta-Analysis Manuscript. Both draft documents were reviewed internally by various Department of Health and Human Services (HHS) entities and, additionally, the Draft State of the Science Monograph underwent external peer review by five scientific experts. Subsequently, the NTP Director decided to seek additional review of these documents from the NTP BSC. In 2022, the NTP Director and the NTP BSC Chair jointly made the decision to convene an independent working group of subject-matter experts to assist the BSC in reviewing the input on the two documents along with NTP authors' responses to the comments. The BSC Working Group's report with its recommendations on whether the authors sufficiently addressed internal and external scientific comments was deliberated at the BSC at a meeting on May 4, 2023. The BSC voted to accept the Working Group's report in full, with the exception of one paragraph on page 323 related to an IQ statistic that the BSC asked the Working Group to verify or correct. The meeting on May 16, 2023, is a continuation of the May 4 meeting where the BSC will take action on the BSC Working Group's updated input. This is the only agenda topic for this meeting.

The preliminary agenda, the Working Group Report as approved by the BSC on May 4, 2023, the Working Group's updated text about the IQ statistic, the roster of BSC members, and any additional information, when available, will be posted on the BSC meeting web page (https://ntp.niehs.nih.gov/go/165), and minutes will be available on the BSC meeting web page within 90 calendar days of the meeting.

Meeting Attendance Registration: The meeting is open to the public. Registration is not required to view the virtual meeting; a link to the webcast for the virtual meeting will be provided on the BSC meeting web page (https://ntp.niehs.nih.gov/go/165) by noon the day before the meeting. TTY users should contact the Federal TTY Relay Service at 800-877-8339. Requests should be made at least five business days in advance of the event.

Meeting Materials: The preliminary meeting agenda will be available on the meeting web page (https://ntp.niehs.nih.gov/go/165) by 5 p.m. on May 12, 2023. Individuals are encouraged to access the meeting web page periodically to stay abreast of the most current information regarding the meeting.

Background Information on the BSC: The BSC is a technical advisory body comprised of scientists from the public and private sectors that provides primary scientific oversight to the NTP. Specifically, the BSC advises the NTP on matters of scientific program content, both present and future, and conducts periodic review of the program for the purpose of determining and advising on the scientific merit of its activities and their overall scientific quality. Its members are selected from recognized authorities knowledgeable in fields such as toxicology, pharmacology, pathology, epidemiology, risk assessment, carcinogenesis, mutagenesis, cellular biology, computational toxicology, neurotoxicology, genetic toxicology, reproductive toxicology or teratology, and biostatistics. Members serve overlapping terms of up to four years. The BSC usually meets periodically. The authority for the BSC is provided by 42 U.S.C. 217a, section 222 of the Public Health Service Act (PHS), as amended.

The BSC is governed by the provisions of the Federal Advisory Committee Act, as amended (5 U.S.C. ch. 10).

Dated: May 9, 2023.
Richard P. Woychik,
Director, National Institute of Environmental Health Sciences and National Toxicology Program, National Institutes of Health.

[FR Doc. 2023-10230 Filed 5-12-23; 8:45 am]

BILLING CODE 4140-01-P